DEPARTMENT OF THE INTERIOR

National Park Service

[NPS-WASO-NRNHL-DTS#-40305; PPWOCRADI0, PCU00RP14.R50000]

National Register of Historic Places; Notification of Pending Nominations and Related Actions

AGENCY: National Park Service, Interior.

ACTION: Notice.

SUMMARY: The National Park Service is soliciting electronic comments on the significance of properties nominated before May 17, 2025, for listing or related actions in the National Register of Historic Places.

DATES: Comments should be submitted electronically by June 17, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before May 17, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name(if applicable), Address/Boundary, City, Vicinity, Reference Number.

DISTRICT OF COLUMBIA

District of Columbia

Latin American Youth Center (LAYC), 3045 15th Street NW, Washington, SG100011967

FLORIDA

Franklin County

Saint Paul A.M.E. Church, 81, 83, and 85 Avenue I, Apalachicola, SG100011954

LOUISIANA

Acadia Parish

Rayne Historic District, Roughly bounded by Clegg Street, Edwards Street, Parkerson Street, Arenas Street, Bernard Street, Gabriel's Alley, Perrodin Street, 4th Street, West South 1st Street, and the railroad tracks, Rayne, SG100011959

East Baton Rouge Parish

Wooddale Tower, 1885 Wooddale Boulevard, Baton Rouge, SG100011958

East Feliciana Parish

Hickory Hill Plantation House, 6139 Highway 952, Jackson, SG100011968

Evangeline Parish

Ville Platte Post Office, 242 West Main Street, Ville Platte, SG100011956

Iberia Parish

Citizens Bank, 1320-24 Main Street, Jeanerette, SG100011969

West Carroll Parish

Oak Grove Historic District, E Main Street, roughly bounded by E. Jefferson Street, Johnson Street, Marietta Street and N. Front Street, Oak Grove, SG100011955

OKLAHOMA

Seminole County

Van-Sanford Apartments, 501 N. Milt Phillips Avenue, Seminole, SG100011957

SOUTH DAKOTA

Hutchinson County

Mettler Cattle Barn, 616 N. 5th St., Menno, SG100011964

WISCONSIN

Racine County

Root River Parks (Island, Riverside, Cedar Bend, and Washington Parks), Along the Root River, to the South of Spring Street and to the north of Washington Avenue Racine, SG100011952

An owner objection received for the following resource(s):

CALIFORNIA

San Mateo County

Sunset Headquarters, 80 Willow Road, Menlo Park, SG100011963

A request for removal has been made for the following resource(s):

NORTH DAKOTA

Richland County

Nelson's Grocery, Main and 3rd Sts., Christine, OT77001027

Post Office, Main and 3rd Sts., Christine, OT77001028

SOUTH DAKOTA

Hughes County

Graham, Mentor, House, U.S. 14, Blunt, OT76001736

Additional documentation has been received for the following resource(s):

ILLINOIS

Whiteside County

Mckeown Mound and Village Site (Additional Documentation), Address Restricted, Sterling vicinity, AD79000873

Will County

Alternate Route 66, Wilmington to Joliet (Additional Documentation), (Route 66 through Illinois MPS), IL 53 bet. Wilmington and Joliet, Joliet, AD06000381

INDIANA

Cass County

Kendrick-Baldwin House (Cass County Memorial Home) Additional Documentation), 706 E. Market St., Logansport, AD82000060

Authority: Section 60.13 of 36 CFR part 60.

Sherry A. Frear,
Chief, National Register of Historic Places/National Historic Landmarks Program.

[FR Doc. 2025-09834 Filed 5-30-25; 8:45 am]

BILLING CODE 4312-52-P